DEPARTMENT OF VETERANS AFFAIRS

[OMB Control No. 2900-0051]

Agency Information Collection Activity: State Approving Agency Reports and Notices

AGENCY: Veterans Benefits Administration, Department of Veterans Affairs.

ACTION: Notice.

SUMMARY: The Veterans Benefits Administration (VBA), Department of Veterans Affairs (VBA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before June 23, 2020.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0051” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 CFR 21.4154, 21.4250(b), 21.4258, 21.4259: 38 CFR 21.4154 which, addresses reporting SAA activities (38 U.S.C. 3674(c)), 38 CFR 21.4250(b) which addresses notices of approvals, suspension of approvals, and disapprovals (38 U.S.C. 3678, 3679), 38 CFR 21.4258 which addresses notices of approvals, and 38 CFR 21.4259 which addresses notices of suspension or disapproval.

Title: State Approving Agency Reports and Notices.

OMB Control Number: 2900-0051.

Type of Review: Revision of a currently approved collection.

Abstract: Information collected under 38 CFR 21.4154—The SAA reports its activities to VA quarterly. The SAA does so electronically by completing a web-based screen. VA uses the information in the reports to support the reimbursement of activities of the SAA. Information collected under 38 CFR 21.4250(b), 21.4258, and 21.4259—The SAA prepares notices of approval to inform educational institutions, training establishments, and organizations or entities that their courses, training, or tests are not approved or the approval of previously approved courses, training, or tests is suspended. The SAA must also send VA a copy of each of these notices. There are 57 SAAs, each with its own jurisdiction for approval of courses, training, or tests. Some States have more than one SAA because one internal agency is responsible for schools, another for workplace training. Additionally, the District of Columbia, Puerto Rico and the U.S. Virgin Islands have authorized SAA jurisdictions.

The SAA approves, disapproves, or suspends program approval based on the criteria in 38 U.S.C. chapter 36. Some of the criteria used in these determinations include site visits; and review of course materials, training programs, instructors' credentials, or review of tests for licensure and certification.

VA uses the approval notice information (or lack thereof) to determine if payment of educational assistance is appropriate. Under 38 U.S.C. 3680, VA may not provide educational assistance to any eligible veteran or eligible person if his or her educational program or training program does not meet the requirements of 38 U.S.C. 3670 et seq. Without these notices, VA would not know which programs the SAA determined met the criteria in 38 U.S.C. chapter 36. Without disapproval notices, or notices of suspended approval, VA would make inappropriate payments to Veterans and their dependents. 38 CFR 21.4258(a) requires the SAA list individual programs approved in the notice. This requirement is needed since not all courses/programs an educational institution provides are approvable under 38 U.S.C. chapter 36. For example, some schools offer courses that are recreational in nature. Payment for recreational courses is prohibited under 38 U.S.C. 3680A. Listing approved courses in the notice ensures VA pays educational assistance for only those courses/programs approved.

Affected Public: Individuals and households.

Estimated Annual Burden: 68,043 hours.

Estimated Average Burden per Respondent: 15 hours.

Frequency of Response: Once Quarterly.

Estimated Number of Respondents: 4,578.

By direction of the Secretary.
Danny S. Green,
VA PRA Clearance Officer, Office of Quality, Performance and Risk, Department of Veterans Affairs.

[FR Doc. 2020-08678 Filed 4-23-20; 8:45 am]

BILLING CODE 8320-01-P